DEPARTMENT OF ENERGY

Federal Energy Regulatory Commission

Combined Notice of Filings #1

Take notice that the Commission received the following electric corporate filings:

Docket Numbers: EC23-24-000.

Applicants: The Vanguard Group, Inc., Vanguard Global Advisors, LLC, Vanguard Asset Management, Ltd., Vanguard Investments Australia Ltd., Vanguard Fiduciary Trust Company.

Description: Joint Application for Authorization Under Section 203 of the Federal Power Act of The Vanguard Group, Inc., et al.

Filed Date: 11/7/22.

Accession Number: 20221107-5238.

Comment Date: 5 p.m. ET 11/28/22.

Take notice that the Commission received the following electric rate filings:

Docket Numbers: ER18-1977-002; ER18-2194-002; ER18-2217-001; ER19-117-002; ER19-118-002.

Applicants: Innovative Solar 67, LLC, Innovative Solar 54, LLC, Buckleberry Solar, LLC, Fox Creek Farm Solar, LLC, Brantley Farm Solar, LLC.

Description: Notice of Non-Material Change in Status of Brantley Farm Solar, LLC, et al.

Filed Date: 11/4/22.

Accession Number: 20221104-5154.

Comment Date: 5 p.m. ET 11/25/22.

Docket Numbers: ER22-2584-000.

Applicants: Greeley Energy Facility, LLC.

Description: Report Filing: Greeley Energy Facility LLC submits tariff filing per: Response to Deficiency Letter to be effective N/A.

Filed Date: 11/4/22.

Accession Number: 20221104-5124.

Comment Date: 5 p.m. ET 11/25/22.

Docket Numbers: ER22-2946-000.

Applicants: Red Oak Power, LLC.

Description: Supplemental Information of Red Oak Power, LLC.

Filed Date: 11/7/22.

Accession Number: 20221107-5242.

Comment Date: 5 p.m. ET 11/17/22.

Docket Numbers: ER23-305-001.

Applicants: Dynasty Power Inc.

Description: Compliance filing: Amended Cost Justification re Certain WECC Spot Market Sales (ER23-305-) to be effective N/A.

Filed Date: 11/8/22.

Accession Number: 20221108-5075.

Comment Date: 5 p.m. ET 11/29/22.

Docket Numbers: ER23-387-000.

Applicants: Tri-State Generation and Transmission Association, Inc.

Description: § 205(d) Rate Filing: Amendment to Service Agreement No. 106 to be effective 10/6/2022.

Filed Date: 11/8/22.

Accession Number: 20221108-5001.

Comment Date: 5 p.m. ET 11/29/22.

Docket Numbers: ER23-388-000.

Applicants: MATL LLP.

Description: § 205(d) Rate Filing: Heartland Long-Term TSA LT-22-2 FIling to be effective 1/8/2023.

Filed Date: 11/8/22.

Accession Number: 20221108-5002.

Comment Date: 5 p.m. ET 11/29/22.

Docket Numbers: ER23-389-000.

Applicants: PJM Interconnection, L.L.C.

Description: § 205(d) Rate Filing: Original NSA, Service Agreement No. 6694; Queue Nos. V1-024/V1-025 to be effective 10/9/2022.

Filed Date: 11/8/22.

Accession Number: 20221108-5031.

Comment Date: 5 p.m. ET 11/29/22.

Docket Numbers: ER23-390-000.

Applicants: Midcontinent Independent System Operator, Inc.

Description: § 205(d) Rate Filing: 2022-11-08_SA 3330 Termination of Assembly Solar LLC-METC E&P (J796) to be effective 11/9/2022.

Filed Date: 11/8/22.

Accession Number: 20221108-5053.

Comment Date: 5 p.m. ET 11/29/22.

Docket Numbers: ER23-391-000.

Applicants: Avista Corporation, PacifiCorp, Puget Sound Energy, Portland General Electric Company, NorthWestern Corporation.

Description: § 205(d) Rate Filing: Avista Corporation submits tariff filing per 35.13(a)(2)(iii: First Amendment Amended and Restated Colstrip Project to be effective 11/7/2022.

Filed Date: 11/8/22.

Accession Number: 20221108-5083.

Comment Date: 5 p.m. ET 11/29/22.

Docket Numbers: ER23-392-000.

Applicants: PJM Interconnection, L.L.C.

Description: § 205(d) Rate Filing: Original NSA, SA No. 6592; Queue No. U3-029 and U3-030 (correction) to be effective 8/23/2022.

Filed Date: 11/8/22.

Accession Number: 20221108-5105.

Comment Date: 5 p.m. ET 11/29/22.

Docket Numbers: ER23-393-000.

Applicants: NorthWestern Corporation.

Description: § 205(d) Rate Filing: RS 330 Certificate of Concurrence to PSE Dynamic Transfer BA to be effective 11/1/2022.

Filed Date: 11/8/22.

Accession Number: 20221108-5128.

Comment Date: 5 p.m. ET 11/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2022.
Debbie-Anne A. Reese,
Deputy Secretary.

[FR Doc. 2022-24837 Filed 11-14-22; 8:45 am]

BILLING CODE 6717-01-P